DEPARTMENT OF COMMERCE

International Trade Administration

Proposed Information Collection; Comment Request; Information on Articles for Physically or Mentally Handicapped Persons Imported Free of Duty

AGENCY: International Trade Administration, Commerce.

ACTION: Notice.

SUMMARY: The Department of Commerce, as part of its continuing effort to reduce paperwork and respondent burdens, invites the general public and other Federal agencies to take this opportunity to comment on continuing information collections, as required by the Paperwork Reduction Act of 1995, Public Law 104-13 (44 U.S.C. 3506(c)(2)(A)).

DATES: Written comments must be submitted on or before September 24, 2007.

ADDRESSES: Direct all written comments to Diana Hynek, Departmental Paperwork Clearance Officer, Department of Commerce, Room 6625, 14th & Constitution Avenue, NW, Washington, DC 20230 or via Internet at dHynek@doc.gov. Telephone No. (202) 482-0266.

FOR FURTHER INFORMATION CONTACT: Request for additional information or copies of the information collection instrument and instructions should be directed to: Faye Robinson, Statutory Import Programs Staff, Room 2104, U.S. Department of Commerce, Washington, DC 20230; Phone number (202) 482-1660, fax number (202) 482-0949.

SUPPLEMENTARY INFORMATION:

I. Abstract

Congress, enacted legislation to implement the Nairobi Protocol to the Florence Agreement, included a provision for the Departments of Commerce and Homeland Security (“DHS”) to collect information on the import of articles for the handicapped. Form ITA-362P, Information on Articles for Physically and Mentally Handicapped Persons Imported Free of Duty, is the vehicle by which statistical information is obtained to assess whether the duty-free treatment of articles for the handicapped has had a significant adverse impact on a domestic industry (or portion thereof) manufacturing or producing a like or directly competitive article. Without the collection of data, it would be almost impossible for a sound determination to be made and for the President to take appropriate action.

II. Method of Collection

A copy of Form ITA-362P may be printed from on the Department of Commerce's Web site at http://ia.ita.doc.gov/sips/ita362p.html or the potential importer may request a copy from the Department. The applicant completes the form and then sends it to Customs and Border Protection (“CBP”). Upon acceptance by CBP as a valid application, it is transmitted to Commerce for processing.

III. Data

OMB Number: 0625-0118.

Form Number: ITA-362P.

Type of Review: Regular submission.

Affected Public: Business or other for-profit organizations; state, local or tribal Government; federal government; individuals or households.

Estimated Number of Respondents: 180.

Estimated Time per Response: 4 minutes.

Estimated Total Annual Burden Hours: 188.

Estimated Total Annual Costs: $14,437.

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including the use of automated collection techniques or forms of information technology.

Comments submitted in response to this notice will be summarized and/or included in the request for OMB approval of this information collection; they also will become a matter of public record.

Dated: July 20, 2007.
Gwellnar Banks,
Management Analyst, Office of the Chief Information Officer.

[FR Doc. E7-14458 Filed 7-25-07; 8:45 am]

BILLING CODE 3510-DS-P